FEDERAL MARITIME COMMISSION

Sunshine Act Meeting

AGENCY HOLDING THE MEETING: Federal Maritime Commission.

TIME AND DATE: April 16, 2014; 10:00 a.m.

PLACE: 800 N. Capitol Street NW., First Floor Hearing Room, Washington, DC.

STATUS: The first portion of the meeting will be held in Open Session; the second in Closed Session.

MATTERS TO BE CONSIDERED:

Open Session

1. Direct Final Rulemaking on Parts 501 and 503 of the Commission's Regulations Concerning Public Information and Delegation of Authority

2. Staff Briefing on Consumer Affairs and Dispute Resolution Services' Activities

Closed Session

1. Discussion on Nondisclosure Provision of Section 6(j) of the Shipping Act

2. Docket No. 12-03: The Auction Block Company, et al. v. The City of Homer, et al.

CONTACT PERSON FOR MORE INFORMATION: Karen V. Gregory, Secretary, (202) 523-5725.

Karen V. Gregory,
Secretary.

[FR Doc. 2014-08354 Filed 4-9-14; 4:15 pm]

BILLING CODE 6730-01-P